FEDERAL ELECTION COMMISSION

Sunshine Act Meetings

Federal Register CITATION NOTICE OF PREVIOUS ANNOUNCEMENT:

89 FR 75540.

PREVIOUSLY ANNOUNCED TIME AND DATE OF THE MEETING:

Thursday, September 19, 2024 at 10:00 a.m.

Hybrid Meeting: 1050 First Street NE, Washington, DC (12th Floor) and Virtual.

CHANGE IN THE MEETING:

The following item was also discussed:

Proposed Referral of Questions on Dependent Care to Regulations Committee

CONTACT PERSON FOR MORE INFORMATION: Judith Ingram, Press Officer, Telephone: (202) 694-1220.

(Authority: Government in the Sunshine Act, 5 U.S.C. 552b)

Laura E. Sinram,
Secretary and Clerk of the Commission.

[FR Doc. 2024-21846 Filed 9-19-24; 4:15 pm]

BILLING CODE 6715-01-P